DEPARTMENT OF HEALTH AND HUMAN SERVICES

Notice of Availability of Proposed Data Collection Standards for Race, Ethnicity, Primary Language, Sex, and Disability Status Required by Section 4302 of the Affordable Care Act

AGENCY: Department of Health and Human Services, Office of the Assistant Secretary for Health, Office of Minority Health.

ACTION: Notice of availability; request for comments.

SUMMARY: The Department of Health and Human Services (DHHS) is seeking public comment on the proposed data collection standards for race, ethnicity, sex, primary language and disability status, as required by Section 4302 of the Affordable Care Act. The proposed data collection standards are now available on the HHS Web site minorityhealth.hhs.gov/section4302.

DATES: Submit comments on or before August 1, 2011.

Instructions for Submitting Comments

You may submit comments, identified by docket ID number HHS-OMH-2011-0013 by one of the following methods:

• Federal eRulemaking Portal: http://www.regulations.gov. Enter the above docket ID number in the “Enter Keyword or ID” field and click on “Search.” On the next web page, click on the “Submit a Comment” action and follow the instructions.

• Standard U.S. Mail: Office of Minority Health Resource Center, Attention: Affordable Care Act Section 4302 Data Standard Comments, P.O. Box 37337, Washington, DC 20013-73337. Mailed comments must be postmarked by July 27, 2011.

• Express or Overnight Mail/Courier: Office of Minority Health Resource Center, Attention: Affordable Care Act Section 4302 Data Standard Comments, 1101 Wooton Parkway, Suite 650, Rockville, MD 20852. For courier delivery, please call (800) 444-6472 in advance to schedule delivery.

The Office of Minority Health strongly encourages commenters to submit comments via the Federal eRulemaking Portal. Comments received, including any personal information, will be posted without change to the docket at http://www.regulations.gov as they are submitted, usually within 1 week after submission. While the comment period remains open, individuals may also provide comments in response to already submitted comments that have been posted to the docket.

The submission of comments in response to this notice should not exceed 5 pages, not including appendices and supplemental documents. Any information you submit will be made public. Consequently, do not send proprietary, commercial, financial, business confidential, trade secret, or personal information that you do not wish to be made public.

FOR FURTHER INFORMATION CONTACT: Rochelle Rollins, PhD, MPH, Office of Minority Health, 1101 Wootton Parkway, Suite 600, Rockville, MD 20852; Phone (800) 444-6472; E-mail ACASection4302@hhs.gov.

SUPPLEMENTARY INFORMATION:

Introduction

DHHS reports, dating back to the landmark 1985 Secretary's Task Force on Black and Minority Health, note the critical importance of rich data systems and culturally competent research to understand and reduce health disparities among population subgroups. Such disparities reflect the interactive effects of multiple social, economic, behavioral, and environmental determinants of health, including access to high quality health care services. Data improvement efforts enhance the ability of the public health and healthcare systems to identify and track disparities in health and health care, and facilitate greater accountability for reducing them. Although there have been government-wide standards for the collection of race and ethnicity for many years, the lack of standards related to data collection on population subgroups defined by other characteristics—such as primary language and disability—remains a challenge for reporting and tracking data on health disparities.

Overview of Section 4302 of the Affordable Care Act

The Affordable Care Act includes multiple provisions aimed at eliminating health disparities in America. Section 4302 (Understanding health disparities: Data collection and analysis) of the Affordable Care Act focuses on the standardization, collection, analysis, and reporting of health disparities data. While data alone will not reduce disparities, it can be foundational to our efforts to characterize the disparities, design effective responses, and evaluate our progress.

Section 4302 begins by requiring the Secretary of DHHS to establish data collection standards for race, ethnicity, sex, primary language, and disability status. The law requires that, once established, these data collection standards be used, to the extent practicable, in HHS national population health surveys. The law also requires that any DHHS data standards be in compliance with standards created by the Office of Management and Budget (OMB), such as those for race and ethnicity. As such, OMB's standards are not the subject of comment in this notice.

The focus of this announcement is for data collection standards related to race, ethnicity, primary language, sex, and disability status, as outlined in Section 4302 of the Affordable Care Act. The law also requires that these data collection standards be used for the purposes of measuring quality and reporting for any federally sponsored, federally conducted, or supported health care or public health program, activity, or survey. Additional subsections of the law relate to data collection standards require the Department to develop data collection standards for access to care for persons with disabilities. The law also gives the Secretary the authority to require that additional demographic data be collected on all Departmental surveys and to develop appropriate data collection standards. The full text of Section 4302 of the Affordable Care Act can be found at minorityhealth.hhs.gov/section4302.

Implementation of Section 4302 of the Affordable Care Act

The Department proposed data collection standards for race, ethnicity, sex, primary language and disability status were guided by existing federal data standards, the results of studies and public reports, consultation with statistical agencies and programs, and the expertise of subject matter experts who have leadership roles with collecting and analyzing this type of data. The focus was to develop data collection standards for race, ethnicity, sex, primary language and disability status that are appropriate for the purposes and methods of population health surveys for self-reported data.

The proposed data collection standards and rationale are for race, ethnicity, primary language, sex, and disability status and pertain only to self-reported data. These proposed data collection standards represent the first round of implementation of Section 4302 of the Affordable Care Act related to race, ethnicity, sex, primary language and disability status. Implementation efforts related to additional subsections of Section 4302 of the Affordable Care Act continue.

The Department is also in the process of developing and validating standard approaches for collecting data about sexual orientation and gender identity.

With this notice, the Office of Minority Health requests comment from the public and interested stakeholders on the proposed data collection standards for race, ethnicity, sex, primary language, and disability status.

The text of the proposed data standards is available in HTML and PDF formats through the Office of Minority Health Web site at minorityhealth.hhs.gov/section4302 and the http://www.regulations.gov, docket ID number HHS-OMH-2011-0013. The full text of Section 4302 of the Affordable Care Act can be found at minorityhealth.hhs.gov/section4302. For those who may not have Internet access, a hard copy can be requested from the point of contact, Rochelle Rollins, PhD, MPH, Office of the Minority Health, 1101 Wootton Parkway, Suite 600, Rockville, MD 20852; Phone (800) 444-6472; E-mail ACASection4302@hhs.gov.

June 24, 2011.
Garth Graham,
Deputy Assistant Secretary for Minority Health, Office of Assistant Secretary for Health .

[FR Doc. 2011-16435 Filed 6-29-11; 8:45 am]

BILLING CODE 4151-05-P